ENVIRONMENTAL PROTECTION AGENCY

[EPA-HQ-OW-2021-0736; FRL-9659-01-OMS]

Information Collection Request Submitted to OMB for Review and Approval; Comment Request; Meat and Poultry Products Industry Data Collection

AGENCY: Environmental Protection Agency (EPA).

ACTION: Notice.

SUMMARY: The Environmental Protection Agency has submitted an information collection request (ICR), “Meat and Poultry Products Industry Data Collection” (EPA ICR No. 2701.01, OMB Control No. 2040-NEW) to the Office of Management and Budget (OMB) for review and approval in accordance with the Paperwork Reduction Act. This is a request for approval of a new collection. Public comments were previously requested via the Federal Register on November 19, 2021, during a 60-day comment period. This notice allows for an additional 30 days for public comments. A fuller description of the ICR is given below, including its estimated burden and cost to the public. An agency may not conduct or sponsor and a person is not required to respond to a collection of information addressed to ten or more entities unless it displays a currently valid OMB control number.

DATES: Additional comments may be submitted on or before April 15, 2022.

ADDRESSES: Submit your comments to EPA, referencing Docket ID No. EPA-HQ-OW-2021-0736, online using www.regulations.gov (our preferred method), by email to OW-Docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Stephen Whitlock, Engineering and Analysis Division, Office of Science and Technology, 4303T, Environmental Protection Agency, 1200 Pennsylvania Ave. NW, Washington, DC 20460; telephone number: 202-566-1541; email address: Whitlock.Steve@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Under the Clean Water Act (CWA), EPA develops effluent limitations guidelines (ELGs) to limit pollutants discharged from industrial point source categories. EPA initially promulgated ELGs for the Meat and Poultry Products (MPP) category in 1974 and amended the regulations in 2004. The current regulation covers wastewater directly discharged by meat and poultry slaughterhouses and further processors as well as independent renderers. Small poultry facilities and indirect dischargers are not included in the current rule.

In EPA's review of nutrients in industrial wastewater, the MPP category ranked among the top two industrial categories discharging nutrients based on 2018 data, and EPA announced a detailed study of the MPP category in 2020. During the study, EPA collected publicly available data and met with industry trade associations. EPA found that there are existing, affordable technologies that can reduce nutrient concentrations in MPP wastewater, and that pretreatment standards may be needed as publicly available data shows pollutants from MPP facilities may passthrough and cause interference for some publicly owned treatment works (POTWs).

Publicly available data on MPP facilities that is needed to support a rulemaking is limited. To identify the base population of approximately 7,000 MPP facilities, EPA collected data from the US Department of Agriculture (USDA) Food Safety Inspection Service (FSIS). Using this base population, EPA attempted to find data on MPP wastewater, effluent limits, and treatment technologies by collecting publicly available facility permits and consulting the Integrated Compliance Information System (ICIS) dataset. Available data was limited to only those facilities directly discharging wastewater or to facilities discharging indirectly through POTWS in individual states that require pretreatment permits to be reported, leaving a large data gap. Thus, a survey of the current MPP industry will be an essential portion of the rulemaking process, necessary for EPA to determine appropriateness of current regulations.

The data collection activities described in this Information Collection Request (ICR) are designed to obtain a robust dataset that characterizes wastewater generation, treatment, and discharge from MPP facilities. A short questionnaire will be administered as an industry census to confirm general information on the type and size (both production and employees) of the facility and gather information on wastewater generation and treatment. To reduce burden on the industry, a statistically representative subset of MPP facilities will complete a detailed survey collecting additional details on processing operations, types and amount of wastewater generated by operation, wastewater treatment details, and economic data. A small number of MPP facilities will also be asked to collect and analyze wastewater samples to characterize raw waste streams, wastewater treatment systems, and treated effluent for pollutants of interest.

The current rule contains 12 subparts, reflecting that the industry engages in a wide range of activities. Facilities range in size from very small (less than 10 employees) to large (over 500 employees). For EPA to complete the detailed technical and economic analysis for the entire industry necessary for the rulemaking process, the short questionnaire, detailed questionnaire, and sampling activities are essential.

Confidential Business Information (CBI) may be collected. In accordance with 40 CFR part 2, subpart B, section 2.203, the MPP Surveys inform respondents of their right to claim information as confidential. Each survey provides instructions for claiming confidentiality and informs respondents of the terms and rules governing the protection of CBI under the CWA and 40 CFR 2.203. Survey respondents are requested to mark any claimed confidential responses as CBI. EPA and its contractors will follow EAD's existing procedures to protect data labeled as CBI.

Form Numbers: 6100-074, 6100-075.

Respondents/affected entities: All Meat and Poultry Products facilities in the U.S.

Respondent's obligation to respond: Mandatory (Clean Water Act section 308).

Estimated number of respondents: 7,000 (total).

Frequency of response: One-time data collection.

Total estimated burden: 70,807 hours. Burden is defined at 5 CFR 1320.03(b).

Total estimated cost: $3,219,484, which includes $85,708 annualized capital or operation & maintenance costs.

Changes in the Estimates: This is a new data collection request and is a one-time temporary increase to the Agency's burden.

Courtney Kerwin,
Director, Regulatory Support Division.

[FR Doc. 2022-05490 Filed 3-15-22; 8:45 am]

BILLING CODE 6560-50-P